DEPARTMENT OF HEALTH AND HUMAN SERVICES

Indian Health Service

Indian Health Professions Preparatory, Indian Health Professions Pre-graduate, and Indian Health Professions Scholarship Programs

Announcement Type: Initial.

CFDA Numbers: 93.971, 93.123, and 93.972.

Key Dates

Application Deadline: April 14, 2013, for continuing students.

Application Deadline: April 14, 2013, for new students.

Application Review: May 13-24, 2013.

Continuation Award Notification Deadline: June 7, 2013.

New Award Notification Deadline: July 5, 2013.

Award Start Date: August 1, 2013.

Acceptance/Decline of Awards Deadline: August 16, 2013.

I. Funding Opportunity Description

The Indian Health Service (IHS) is committed to encouraging American Indians and Alaska Natives to enter the health professions and to assuring the availability of Indian health professionals to serve Indians. The IHS is committed to the recruitment of students for the following programs:

• The Indian Health Professions Preparatory Scholarship authorized by Section 103 of the Indian Health Care Improvement Act, Public Law 94-437 (1976), as amended (IHCIA), codified at 25 U.S.C. 1613(b)(1).

• The Indian Health Professions Pre-graduate Scholarship authorized by Section 103 of the IHCIA, codified at 25 U.S.C. 1613(b)(2).

• The Indian Health Professions Scholarship authorized by Section 104 of the IHCIA, codified at 25 U.S.C. 1613a.

Full-time and part-time scholarships will be funded for each of the three scholarship programs.

The scholarship award selections and funding are subject to availability of funds appropriated for the Scholarship Program.

II. Award Information

Type of Award

Scholarship.

Estimated Funds Available

An estimated $14.0 million will be available for Fiscal Year (FY) 2013 awards. The IHS Scholarship Program (IHSSP) anticipates, but cannot guarantee, due to possible funding changes, student scholarship selections from any or all of the following disciplines in the 103 and 104 Programs for the Scholarship Period 2013-2014. Due to the rising cost of education and the decreasing number of scholars who can be funded by the IHSSP, the IHSSP has changed the funding policy for Preparatory and Pre-graduate scholarship awards and reallocated a greater percentage of its funding in an effort to increase the number of Health Professions scholarships, and inherently the number of service obligated scholars, to better meet the health care needs of the IHS and its Tribal and Urban Indian health care system partners.

Anticipated Number of Awards

Approximately 60 awards will be made under the Health Professions Preparatory and Pre-graduate Scholarship Programs for Indians. The awards are for ten months in duration, with an additional two months for approved summer school requests, and will cover both tuition and fees and Other Related Costs (ORC). The average award to a full-time student is approximately $33,486.03. An estimated 300 awards will be made under the Indian Health Professions Scholarship Program. The awards are for 12 months in duration and will cover both tuition and fees and ORC. The average award to a full-time student is approximately $41,196.77. In FY 2013, an estimated $12,500,000 is available for Health Professions awards, and an estimated $1,500,000 is available for Preparatory and Pre-graduate awards.

Project Period

The project period for the IHS Health Professions Preparatory Scholarship support, tuition, fees and ORC is limited to two years for full-time students and the part-time equivalent of two years, not to exceed four years for part-time students. The project period for the Health Professions Pre-graduate Scholarship support, tuition, fees and ORC is limited to four years for full-time students and the part-time equivalent of four years, not to exceed eight years for part-time students. The IHS Indian Health Professions Scholarship provides support for tuition, fees, and ORC and is limited to four years for full-time students and the part-time equivalent of four years, not to exceed eight years for part-time students.

III. Eligibility Information

This is a limited competition announcement. New and Continuation scholarship awards are limited to “Indians” as defined at 25 U.S.C. Section 1603 (13). Continuation awards are non-competitive.

1. Eligibility

The Health Professions Preparatory Scholarship awards are made to American Indians (Federally recognized Tribal members, first and second degree descendants of Federally recognized Tribal members, State recognized Tribal members and first and second degree descendants of State recognized Tribal members), or Eskimo, Aleut and other Alaska Natives who:

• Have successfully completed high school education or high school equivalency; and

• Have been accepted for enrollment in a compensatory, pre-professional general education course or curriculum.

The Health Pre-graduate Scholarship awards are made to American Indians (Federally recognized Tribal members, first and second degree descendants of Tribal members, and State recognized Tribal members, first and second degree descendants of State recognized Tribal members), or Eskimo, Aleut and other Alaska Natives who:

• Have successfully completed high school education or high school equivalency; and

• Have been accepted for enrollment or are enrolled in an accredited pre-graduate program leading to a baccalaureate degree in pre-medicine, pre-dentistry, pre-optometry or pre-podiatry.

The Indian Health Professions Scholarship may be awarded only to an individual who is a member of a Federally recognized Indian Tribe, Eskimo, Aleut or other Alaska Native as provided by Section 1603 (13) and Section 1603 (14) of the IHCIA. Membership in a Tribe recognized only by a state does not meet this statutory requirement for the Indian Health Professions Scholarship. To receive an Indian Health Professions Scholarship, an otherwise eligible individual must be enrolled in an appropriately accredited school and pursuing a course of study in a health profession as defined by Section 1603 (10) of the IHCIA.

2. Cost Sharing/Matching

The Scholarship Program does not require matching funds or cost sharing to participate in the competitive award process.

3. Benefits From State, Local, Tribal and Other Federal Sources

Awardees of the Health Professions Preparatory, Health Professions Pre- Graduate scholarship Health Professions scholarship, who accept outside funding from other scholarship, grant and fee waiver programs, will have these monies applied to their student account tuition and fees charges at the college or university they are attending, before the IHS Scholarship Program will pay any of the remaining balance. These outside funding sources must be reported on the student's invoicing documents submitted by the college or university they are attending. Student loans and Veterans Administration (VA)/GI Bill Benefits accepted by Health Professions scholarship recipients will have no effect on the IHSSP payment made to their college or university.

IV. Application Submission Information

1. Address To Request Application Package

The IHS 856 Scholarship Application (Scantron purple bubble form) forms will no longer be available for use beginning in the AY 2013-2014 application cycle. Applicants must go online to www.ihs.gov/scholarship to begin the application process for an IHS scholarship. Applicants are strongly encouraged to seek consultation from their Area Scholarship Coordinator (ASC) in preparing their scholarship application for award consideration. ASC's are listed on the IHS Web site at: http://www.scholarship.ihs.gov/area_coordinators.cfm.

This information is listed below. Please review the following list to identify the appropriate IHS Area Scholarship Coordinator for your State of residence.

IHS Area Office and States/locality served | Scholarship coordinator address
Aberdeen Area IHS:
Iowa, Nebraska, North Dakota, South Dakota | Ms. Kim Annis, IHS Area Scholarship Coordinator, Aberdeen Area IHS, 115 4th Avenue SE., Aberdeen, SD 57401, Tele: (605) 226-7466.
Alaska Native Tribal Health Consortium:
Alaska | Ms. Courtney Bridges, IHS Area Scholarship Coordinator, 4000 Ambassador Drive, Anchorage, AK 99508, Tele: (907) 729-1917, 1-800-684-8361 (toll free).
Albuquerque Area IHS:
Colorado, New Mexico | Ms. Cora Boone, Colorado IHS Area Scholarship Coordinator, Albuquerque Area IHS, 5300 Homestead Road, NE., Albuquerque, NM 87110.
Bemidji Area IHS:
Illinois, Indiana, Michigan, Minnesota, Wisconsin | Mr. Tony Buckanaga, IHS Area Scholarship Coordinator, Bemidji Area IHS, 522 Minnesota Avenue NW., Room 209, Bemidji, MN 56601, Tele: (218) 444-0486, 1-800-892-3079 (toll free).
Billings Area IHS:
Montana, Wyoming | Mr. Delon Rock Above, Alternate: Ms. Bernice Hugs, IHS Area Scholarship Coordinator, Billings Area IHS, Area Personnel Office, P.O. Box 36600, 2900 4th Avenue, North, Suite 400, Billings, MT 59103, Tele: (406) 247-7215.
California Area IHS:
California | Ms. Mona Celli, IHS Area Scholarship Coordinator, California Area IHS, 650 Capitol Mall, Suite 7-100, Sacramento, CA 95814, Tele: (505) 248-4418.
Nashville Area IHS:
Alabama, Arkansas, Connecticut, Delaware, Florida, Georgia, Kentucky, Louisiana, Maine, Maryland, Massachusetts, Mississippi, District of Columbia, New Hampshire, New Jersey, New York, North Carolina, Ohio, Pennsylvania, Rhode Island, South Carolina, Tennessee, Vermont, Virginia, West Virginia | Ms. Marla Jones, IHS Area Scholarship Coordinator, Nashville Area IHS, 711 Stewarts Ferry Pike, Nashville, TN 37214, Tele: (615) 467-1576, Fax: (615) 467-1569.
Navajo Area IHS:
Arizona, New Mexico, Utah | Ms. Aletha John, IHS Area Scholarship Coordinator, Navajo Area IHS, P.O. Box 9020, Window Rock, AZ 86515, Tele: (928) 871-1360.
Oklahoma City Area IHS:
Kansas, Missouri, Oklahoma | Mr. Keith Bohanan, IHS Area Scholarship Coordinator, Oklahoma City Area IHS, 701 Market Drive, Oklahoma City, OK 73114, Tele: (405) 951-3789, 1-800-722-3357 (toll free).
Phoenix Area IHS:
Arizona, Nevada, Utah | Ms. Trudy Begay, IHS Area Scholarship Coordinator, Phoenix Area IHS, Suite 510, 40 North Central Avenue, Phoenix, AZ 85004, Tele: (602) 364-5256.
Portland Area IHS:
Idaho, Oregon, Washington | Mr. Wayne Teeias, IHS Area Scholarship Coordinator, Portland Area IHS, 1414 NW Northrup Street, Suite 800, Portland, OR 97209, Tele: (503) 414-5546.
Tucson Area IHS:
Arizona, Texas | Ms. Trudy Begay, (See Phoenix Area).

2. Content and Form Submission

Each applicant will be responsible for creating an online account and completing the electronic version of the IHS-856 Scholarship Application form which will register the applicant into the IHS Scholarship Program database. The applicant is instructed, online, to print three copies of this electronic IHS-856 Application form, one for their records and two which must be signed, dated and submitted by mail with two sets of the required supporting documents, one original signature set and one copy set, in accordance with the IHS Scholarship Program Application Handbook instructions, to the: IHS Scholarship Program Branch Office, 801 Thompson Avenue, TMP 450A, Rockville, MD 20852. Only electronically completed and signed IHS-856 scholarship application forms mailed with their supporting documents are being accepted for the AY 2013-2014 scholarship cycle. For more information on how to access the electronic scholarship application form, go to www.ihs.gov/scholarship. The on-line portal will be open on February 10, 2013. The application will be considered complete if the following documents (original and one copy) are included:

• Completed and signed online application Checklist.

• Original completed, printed, and signed IHS-856 online application form for new or continuation student.

• Current Letter of Acceptance from College/University or Proof of Application to a College/University or Health Professions Program.

• One set of Official transcripts for all colleges/universities attended (or high school transcripts or Certificate of Completion of Home School Program or General Education Diploma (G.E.D). for applicants who have not taken college courses).

• Cumulative Grade Point Average (GPA): Calculated by the applicant.

• Applicant's Documents for Indian Eligibility.

A. If you are a member of a Federally recognized Tribe or Alaska Native (recognized by the Secretary of the Interior), provide evidence of membership such as:

(1) Certification of Tribal enrollment by the Secretary of the Interior, acting through the Bureau of Indian Affairs (BIA) Certification: Form 4432-Category A or D, whichever is applicable); or

(2) In the absence of BIA certification, documentation that you meet requirements of Tribal membership as prescribed by the charter, articles of incorporation or other legal instrument of the Tribe and have been officially designated as a Tribal member as evidenced by an accompanying document signed by an authorized Tribal official, i.e., Tribal enrollment card showing enrollment number; or

(3) Other evidence of Tribal membership satisfactory to the Secretary of the Interior.

Note: If you meet the criteria for Category A you are eligible for the Preparatory, Pre-graduate or Health Professions Scholarship. If you only meet the criteria for Category B or C, you are eligible only the Preparatory or Pre-graduate Scholarships.

B. For Section 103 Scholarships Only: If you are a member of a Tribe terminated since 1940 or a State recognized Tribe and first or second degree descendant, provide official documentation that you meet the requirements of Tribal membership as prescribed by the charter, articles of incorporation or other legal instrument of the Tribe and have been officially designated as a Tribal member as evidenced by an accompanying document signed by an authorized Tribal official; or other evidence, satisfactory to the Secretary of the Interior, that you are a member of the Tribe. In addition, if the terminated or state recognized Tribe of which you are a member is not on a list of such Tribes published by the Secretary of the Interior in the Federal Register, you must submit an official signed document that the Tribe has been terminated since 1940 or is recognized by the state in which the Tribe is located in accordance with the law of that state.

C. For Section 103 Scholarships, only: If you are not a Tribal member, but are a natural child or grandchild of a Tribal member you must submit: (1) evidence of that fact, e.g., your birth certificate and/or your parent's/grandparent's birth/death certificate showing the name of the Tribal member; and (2) evidence of your parent's or grandparent's Tribal membership in accordance with paragraphs A and B. The relationship to the Tribal member must be clearly documented. Failure to submit the required documentation will result in the application not being accepted for review.

• Two Faculty/Employer Evaluations with original signature.

• Reasons for Requesting the Scholarship.

• Delinquent Debt Form.

• Course Curriculum Verification with original signature.

• Curriculum for Major.

3. Submission Dates

Continuation Application Receipt Date: The online Continuation Application submission deadline for Continuation applicants is Thursday, March 28, 2013. The hard copy Student Data Sheet form will no longer be mailed to Continuation applicants beginning in AY 2013-2014. All form are available electronically. Required application support documents must be submitted by Thursday, March 28, 2013.

New Application Receipt Date: New applicants must print two copies of their application form, sign them, and submit these with their supporting documents to be mailed by the deadline of Thursday, March 28, 2013. No supporting documents will be accepted after this date, except final Letters of Acceptance, which must be submitted no later than Friday, May 31, 2013.

Application forms and supporting documents (original and one copy) shall be considered as meeting the deadline if they are received by mail by the IHSSP Branch Office, postmarked on or before the deadline date. Applicants should request a legibly dated U.S. Postal Service postmark or obtain a legibly dated receipt from a commercial carrier or U.S. Postal Service. Private metered postmarks will not be acceptable as proof of timely mailing and will not be considered for funding.

New and Continuation applicants may check the status of their application receipt and processing by logging into their online account at www.ihs.gov/scholarship. Applications received, with postmarks after the announced deadline date, will not be considered for funding.

4. Intergovernmental Review

Executive Order 12372 requiring intergovernmental review is not applicable to this program.

5. Funding Restrictions

No more than 5% of available funds will be used for part-time scholarships this fiscal year. Students are considered part-time if they are enrolled for a minimum of six hours of instruction and are not considered in full-time status by their college/university. Documentation must be received from part-time applicants that their school and course curriculum allows less than full-time status. Both part-time and full-time scholarship awards will be made in accordance with 42 CFR subpart J, Subdivisions J-3, J-4, and J-8 and this information will be published in all IHSSP Application and Student Handbooks as they pertain to the IHSSP.

6. Other Submissions Requirements

New and Continuation applicants are responsible for using the online application system. See section 3. Submission Dates for application deadlines.

V. Application Review Information

1. Criteria

Applications will be reviewed and scored with the following criteria.

• Academic Performance (40 points)

Applicants are rated according to their academic performance as evidenced by transcripts and faculty evaluations. In cases where a particular applicant's school has a policy not to rank students academically, faculty members are asked to provide a personal judgment of the applicant's achievement. Preparatory, Pre-graduate and Health Professions applicants with a cumulative GPA below 2.0 are not eligible for award.

• Faculty/Employer Recommendations (30 points)

Applicants are rated according to evaluations by faculty members, current and/or former employers and Tribal officials regarding the applicant's potential in the chosen health related professions.

• Stated Reasons for Asking for the Scholarship and Stated Career Goals Related to the Needs of the IHS (30 points)

Applicants must provide a brief written explanation of reasons for asking for the scholarship and of their career goals. Applicants are considered for scholarship awards based on their desired career goals and how these goals relate to current Indian health personnel needs.

The applicant's narrative will be judged on how well it is written and its content.

Applications for each health career category are reviewed and ranked separately.

• Applicants who are closest to graduation or completion of training are awarded first. For example, senior and junior applicants under the Health Professions Pre-graduate Scholarship receive funding before freshmen and sophomores.

• Priority Categories

The following is a list of health professions that will be considered for funding in each scholarship program in FY 2013.

○ Indian Health Professions Preparatory Scholarships

A. Pre-Clinical Psychology (Jr. and Sr. undergraduate years only).

B. Pre-Nursing.

C. Pre-Pharmacy.

D. Pre-Social Work (Jr. and Sr. preparing for an MS in social work).

○ Indian Health Professions Pre-graduate Scholarships

A. Pre-Dentistry.

B. Pre-Medicine.

C. Pre-Optometry.

D. Pre-Podiatry.

○ Indian Health Professionals Scholarship

A. Bio Medical Engineering—BS. (Jr. and Sr. undergraduate years only).

B. Bio Medical Technology—AAS.

C. Chemical Dependency Counseling—Master's Degrees.

D. Clinical Psychology—Ph.D. or Psy.D.

E. Dentistry: DDS or DMD degrees

F. Diagnostic Radiology Technology: Associates and B.S.

G. Environmental Health/Sanitarian: B.S. (Jr. and Sr. undergraduate years only).

H. Health Records Administration: R.H.I.T. (A.A.S.) and R.H.I.A (B.S.).

I. Medical Technology: B.S. (Jr. and Sr. undergraduate years only).

J. Medicine: Allopathic and Osteopathic.

K. Nurse: Associate and Bachelor Degrees and advanced degrees in Psychiatry, Geriatric, Women's Health, Pediatric Nursing, Midwifery, Nurse Anesthetist, and Nurse Practitioner. (Priority consideration will be given to Registered Nurses employed by the IHS; in a program conducted under a contract or compact entered into under the Indian Self-Determination Act and Education Assistance Act (Pub. L. 93-638) and its amendments; or in a program assisted under Title V of the IHCIA).

L. Optometry: O.D.

M. Pharmacy: Pharm.D.

N. Physician Assistant: PA-C.

O. Physical Therapy: M.S. and D.P.T.

P. Podiatry: D.P.M.

Q. Public Health Nutritionist: M.S.

R. Respiratory Therapy: B.S. Degree.

S. Social Work: Masters Level only (Direct Practice and Clinical concentrations).

T. Ultrasonography (Prerequisite: Diagnostic Radiology Technology degree/certificate).

2. Review and Selection Process

The applications will be reviewed and scored by the IHS Scholarship Program's Application Review Committee appointed by the IHS. Each reviewer will not be allowed to review an application from his/her Area or his/her own Tribe. Each application will be reviewed by three reviewers. The average score of the three reviews provides the final Ranking Score for each applicant. To determine the ranking of each applicant, these scores are sorted from the highest to the lowest within each scholarship health discipline by date of graduation and score. If several students have the same date of graduation and score within the same discipline, computer ranking list will randomly sort and will not be sorted by alphabetical name. Selections are then made from the top of each ranking list to the extent that funds allocated by the IHS among the three scholarships are available for obligation.

VI. Award Administration Information

1. Award Notices

It is anticipated that continuing applicants will be notified in writing during the first week of June 2013 and new applicants will be notified in writing during the first week of July 2013. An Award Letter will be issued to successful applicants. Unsuccessful applicants will be notified in writing, which will include a brief explanation of the reason(s) the application was not successful and provide the name of the IHS official to contact if more information is desired.

2. Administrative and National Policy Requirements

Regulations at 42 CFR part 136.304 provide that the IHS shall, from time to time, publish a list of health professions eligible for consideration for the award of IHS Indian Health Professions Preparatory and Pre-graduate Scholarships and IHS Health Professions Scholarship. Section 104(b)(1) of the IHCIA, as amended by the Indian Health Care Amendment of 1988, Public Law 100-713, authorizes the IHS to determine specific health professions for which Indian Health Scholarships will be awarded.

Awards for the Indian Health Professions Scholarships will be made in accordance 42 CFR 136.330-136.334. Awardees shall incur a service obligation prescribed under the IHCIA, Section 1613a(b), which shall be met by service, through clinical practice:

(1) In the IHS;

(2) In a program conducted under a contract or compact entered into under the Indian Self-Determination Act and Education Assistance Act (Pub. L. 93-638) and its amendments;

(3) In a program assisted under Title V of the Indian Health Care Improvement Act (Pub. L. 94-437) and its amendments; or

(4) In a private practice option of his or her profession if the practice (a) is situated in a health professional shortage area, designated in regulations promulgated by the Secretary of Health and Human Services (Secretary) and (b) addresses the health care needs of a substantial number (75% of the total served) of Indians as determined by the Secretary in accordance with guidelines of the Service.

Pursuant to the IHCIA Section1613a(b)(3)(C), an awardee of an IHS Health Professions Scholarship may, at the election of the awardee, meet his/her service obligation prescribed under IHCIA Section 1613a(b) by a program specified in options (1)-(4) above that:

(i) Is located on the reservation of the Tribe in which the awardee is enrolled; or

(ii) Serves the Tribe in which the awardee is enrolled, if there is an open vacancy available in the discipline for which the awardee was funded under the IHS Health Professions Scholarship during the required 90-day placement period.

In summary, all awardees of the Indian Health Professions Scholarship are reminded that acceptance of this scholarship will result in a service obligation required by both statutes and contract, which must be performed at an approved service payback facility. The Director reserves the right to make final decisions regarding assignment of scholarship recipients to fulfill their service obligation.

Moreover, the Director, IHS, has the authority to make the final determination, designating a facility, whether managed and operated by IHS, or one of its Tribal or Urban Indian partners, consistent with IHCIA, as approved for scholar obligated service payback.

3. Reporting

Scholarship Program Minimum Academic Requirements

It is the policy of the IHS that a scholarship awardee funded under the Health Professions Scholarship Program of the Indian Health Care Improvement Act must maintain a 2.0 cumulative GPA, remain in good academic standing each semester/trimester/quarter, maintain full-time student status (Institutional definition of `minimum hours' constituting full-time enrollment applies) or part-time student status (Institutional definition of `minimum and maximum' hours constituting part-time enrollment applies) for the entire academic year, as indicated on the scholarship application submitted for that academic year. The Health Professions scholarship awardee may not change his or her enrollment status between terms of enrollment, during the same academic year. In addition to these requirements, a Health Professions Scholarship awardee must be enrolled in an approved/accredited school for a Health Professions degree.

An awardee of a scholarship under the IHS Health Professions Preparatory and Health Professions Pre-Graduate Scholarship authority must maintain a minimum 2.0 cumulative GPA, remain in good standing each semester/trimester/quarter and be a full time student (Institutional definition of `minimum hours' constituting full-time enrollment applies, typically 12 credit hours per semester) or a part-time student (Institutional definition of `minimum and maximum' hours constituting part-time enrollment applies, typically 6-11 credit hours). The Preparatory and Pre-graduate awardee may not change from part-time status to full-time status or vice versa in the same academic year.

The following reports must be sent to the IHSSP at the identified time frame. Each scholarship awardee will have access to an online Student Handbook containing all required program forms and instructions on when, how, and to whom these must be submitted, by logging into the IHSSP Web site at www.ihs.gov/scholarship. If a scholarship awardee fails to submit these forms and reports as required, they will be ineligible for continuation of scholarship support and scholarship award payments will be discontinued.

A. Recipient's Enrollment and Initial Progress Report

Within thirty (30) days from the beginning of each semester/trimester/quarter, scholarship awardees must submit a Recipient's Enrollment and Initial Progress Report (Form IHS-856-8, page 69 of the Student Handbook).

B. Transcripts

Within thirty (30) days from the end of each academic period, i.e., semester/trimester/quarter, or summer session, scholarship awardees must submit an Official Transcript showing the results of the classes taken during that period.

C. Notification of Academic Problem/Change

If at any time during the semester/trimester/quarter, scholarship awardees are advised to reduce the number of credit hours for which they are enrolled below the minimum of the 12 (or the number of hours considered by their school as full-time) for a full-time student or at least six hours for part-time students; or if they experience academic problems, they must immediately submit Form IHS-856-9, on page 71 of the Student Handbook.

D. Change of Status

• Change of Academic Status

Scholarship awardees must immediately notify their Scholarship Program Analyst if they are placed on academic probation, dismissed from school, or voluntarily withdraw for any reason (personal or medical).

• Change of Health Discipline

Scholarship awardees may not change from the approved IHSSP health discipline during the school year. If an unapproved change is made, scholarship payments will be discontinued.

• Change in Graduation Date

Any time that a change occurs in a scholarship awardee's expected graduation date, they must notify their Scholarship Program Analyst immediately in writing. Justification must be attached from the school advisor.

VII. Agency Contacts

1. Questions on the application process may be directed to the appropriate IHS Area Scholarship Coordinator.

2. Questions on other programmatic matters may be addressed to: Dr. Dawn A. Kelly, Chief, Scholarship Program, 801 Thompson Avenue, TMP 450A, Rockville, Maryland 20852, Telephone: (301) 443-6197 (This is not a toll-free number).

3. Questions on payment information may be directed to: Mr. Craig Boswell, Grants Scholarship Coordinator, Division of Grants Management, Indian Health Service, 801 Thompson Avenue, TMP 360, Rockville, Maryland 20852, Telephone: (301) 443-0243 (This is not a toll-free number).

VIII. Other Information

The Public Health Service (PHS) is committed to achieving the health promotion and disease prevention objectives of Health People 2020, a PHS-led activity for setting priority areas. This program announcement is related to the priority area of Education and Community-Based Programs. Potential applicants may download a copy of Healthy People 2020 from http://www.healthypeople.gov.

Interested individuals are reminded that the list of eligible health and allied professions is effective for applicants for the 2013-2014 academic year. These priorities will remain in effect until superseded. Applicants who apply for health career categories not listed as priorities during the current scholarship cycle will not be considered for a scholarship award.

Dated: March 11, 2013.
Yvette Roubideaux,
Director, Indian Health Service.

[FR Doc. 2013-06101 Filed 3-15-13; 8:45 am]

BILLING CODE 4165-16-P